DEPARTMENT OF LABOR

Pension and Welfare Benefits Administration

Working Group on Electronic Reporting; Advisory Council on Employee Welfare and Pension Benefits Plans; Notice of Meeting

Pursuant to the authority contained in section 512 of the employee Retirement Income Security Act of 1974 of (ERISA), 29 U.S.C. 1142, a public meeting will be held Friday, July 19, 2002, of the Advisory Council on Employee Welfare and Pension Benefit Plans Working Group assigned to study electronic reporting. The purpose of the working group is to identify and prioritize opportunities for DOL to leverage the use of information technology to improve delivery of plan information from and delivery of information and services to its key stakeholders, including plan participants and beneficiaries, plan sponsors, auditors, investment advisors and the general public.

The session will take place in Room N-5437 A-C, U.S. Department of labor Building, 200 Constitution Avenue, NW, Washington, DC 20210. The purpose of the open meeting, which will run from 9:30 a.m. to approximately 1 p.m., is for working group members to outline the group's goals for study at this organizational meeting and to hear from select witnesses on the issue. Working Group chair is Evelyn F. Adams, Business Segment Executive, IBM Global Services, Gaithersburg, MD., and vice chair is Timothy J. Mahota, General Counsel, Integral Development, Mountain View, Calif.

Members of the public are encouraged to file a written statement pertaining to the topic by submitting 20 copies on or before July 9, 2002, to Sharon Morrissey, Executive Secretary, ERISA Advisory Council, U.S. Department of labor, Room N-5677, 200 Constitution Avenue, NW, Washington DC 20210. Individuals or representatives of organizations wishing to address the Working Group should forward their request to the Executive Secretary or telephone (202) 693-8668. Oral presentations will be limited to 20 minutes, but an extended statement may be submitted for the record. Individuals with disabilities, who need special accommodations, should contact Sharon Morrissey by July 9, at the address indicate in this notice.

Organizations or individuals may also submit statement for the record without testifying. Twenty (20) copies so such statements should be sent to the Executive Secretary of the Advisory Council at the above address. Papers will be accepted and included in the record of the meeting if received on or before July 9.

Signed at Washington, DC., this 25 day of June 2002.
Ann L. Combs,
Assistant Secretary, Pension and Welfare Benefits Administration.

[FR Doc. 02-16594 Filed 7-1-02; 8:45 am]

BILLING CODE 4510-29-M